DEPARTMENT OF ENERGY

Federal Energy Regulatory Commission

[Docket No. EC03-61-000, et al.]

Black Hills Corporation, et al.; Electric Rate and Corporate Filings

March 3, 2003.

The following filings have been made with the Commission. The filings are listed in ascending order within each docket classification.

1. Black Hills Corporation

[Docket No. EC03-61-000]

Take notice that on February 26, 2003, Black Hills Corporation (Black Hills) filed an application with the Federal Energy Regulatory Commission (Commission), under Section 203 of the Federal Power Act, requesting authorization to implement a plan of corporate restructuring .

Comment Date: March 19, 2003.

2. Cities of Anaheim, Azusa, Banning, Colton, and Riverside, California and City of Vernon, California v. California Independent System Operator Corporation

[Docket No. EL03-54-000]

Take notice that on February 26, 2003, the Cities of Anaheim, Azusa, Banning, Colton, and Riverside, California (Southern Cities) and the City of Vernon, California (Vernon) filed a Petition for Review of Arbitrator's Award, pursuant to Rule 207 of the Commission's Rules of Practice and Procedure, 18 CFR 385.207, and section 13.4 of the California Independent System Operation Corporation's (ISO) Tariff. The petition states that the Southern Cities and Vernon are requesting review of the Arbitrator's “Findings of Fact and Conclusions of Law” issued on February 7, 2003, in American Arbitration Association (AAA) Case No. 71 198 00758 00 as well as the original May 1, 2002 award of the arbitrator in that case.

The Southern Cities and Vernon state that their filing has been served upon all parties to the arbitration and the Arbitrator through his designated representative at the AAA.

Comment Date: March 29, 2003.

3. Central Hudson Gas & Electric Corporation, Consolidated Edison Company of New York, Inc., Long Island Lighting Company, New York State Electric & Gas Corporation, Niagara Mohawk Power Corporation, Orange & Rockland Utilities, Inc., Rochester Gas and Electric Corporation and New York Power Pool

[Docket No. ER97-1523-073]

Take notice that on February 26, 2003, the New York Independent System Operator, Inc. (NYISO) supplied information in response to an inquiry from the Federal Energy Regulatory Commission's (Commission) staff to assist the Commission in responding to a remand from the United States Court of Appeals for the District of Columbia Circuit relating to marginal losses.

The NYISO states that copies of this filing have been served on all parties in the above-referenced docket number.

Comment Date: March 19, 2003.

4. Reliant Energy Seward, LLC

[Docket No. ER01-3035-002]

Take notice that on February 27, 2003, Reliant Energy Seward, LLC (Seward) filed a letter requesting an amendment to the effective date of Seward's FERC Electric Tariff in Docket No. ER01-3035-001. Seward requests an effective date of March 1, 2003.

Comment Date: March 20, 2003.

5. The Clark Fork and Blackfoot, L.L.C.

[Docket No. ER02-2569-002]

Take notice that on February 27, 2003, The Clark Fork and Blackfoot, L.L.C. (TCFB) tendered for filing revisions to its application for an order accepting its FERC Electric Tariff Original Volume No. 1, granting certain blanket approvals, including the authority to sell electricity, capacity, and ancillary services at market-based rates, and waiving certain regulations of the Commission.

Comment Date: March 20, 2003.

6. Duke Energy Corporation

[Docket No.ER03-359-001]

Take notice that on February 27, 2003, Duke Energy Corporation, on behalf of Duke Electric Transmission, (collectively, Duke) in compliance with the February 12, 2003 Letter Order issued by the Director, Division of Tariffs and Market Development—South, tendered for filing Duke's First Revised Rate Schedule No. 10-A designated consistent with Order No. 614, Designation of Electric Rate Schedule Sheets, FERC Stats. & Regs. Preambles-31,096.

Comment Date: March 20, 2003.

7. New York State Electric & Gas Corporation and Rochester Gas and Electric Corporation

[Docket No. ER03-560-000]

Take notice that on February 26, 2003, New York State Electric & Gas Corporation and Rochester Gas and Electric Corporation filed with the Federal Energy Regulatory Commission a joint application to amend their codes of conduct.

Comment Date: March 19, 2003.

8. Michigan Electric Transmission Company, LLC

[Docket No. ER03-561-000]

Take notice that on February 26, 2003, Michigan Electric Transmission Company, LLC (METC) submitted a Letter Agreement between the City of Hart and Michigan Electric Transmission Company, LLC (Hart and Letter Agreement), intended to establish the terms and conditions for engineering and related activities to be performed by METC in connection with a possible interconnection to the METC transmission system by Hart.

Comment Date: March 19, 2003.

9. New England Power Pool

[Docket No. ER03-562-000]

Take notice that on February 26, 2003, the New England Power Pool (NEPOOL) submitted the Ninety-Fifth Agreement Amending New England Power Pool Agreement, which updates and corrects the information in Attachments G, G-2 and G-3, and the accompanying Addendum (collectively, Attachment G), of the Restated NEPOOL Open Access Transmission Tariff (the NEPOOL Tariff). Attachment G identifies and describes the characteristics of the grandfathered contractual arrangements referred to as Excepted Transactions. NEPOOL states that the information in Attachment G will be used to allocate Auction Revenue Rights under NEPOOL's Standard Market Design (SMD-NE) currently scheduled to be implemented on March 1, 2003. NEPOOL states further that to facilitate implementation of SMD-NE, NEPOOL is updating Attachment G to assure the accuracy of the information contained therein. A March 1, 2003 effective date is requested for these changes.

NEPOOL states that copies of these materials were sent to the NEPOOL Participants, Non-Participant Transmission Customers and the New England state governors and regulatory commissions.

Comment Date: March 19, 2003.

10. Midwest Independent Transmission System Operator, Inc.

[Docket No. ER03-564-000]

Take notice that on February 27, 2003, the Midwest Independent Transmission System Operator, Inc. (Midwest ISO), tendered for filing revisions to Exhibit A (Network Loads) of the Network Integration Transmission Service Agreement between itself and Wisconsin Public Power Inc. (WPPI). The revisions to the Transmission Service Agreement allows WPPI to consolidate the transmission services of three new municipal members of WPPI with its current membership under the Midwest ISO's Open Access Transmission Tariff, FERC Electric Tariff, Second Revised Volume No. 1. In addition to the revised Exhibit A, the Midwest ISO also submits Notices of Cancellation of the network integration transmission service agreements under which Oconto Falls Water & Light Commission, the Prairie du Sac Water & Light Department, and Stoughton Electric Utility have previously been served.

The Midwest ISO requests a February 1, 2003 effective date and waiver of the Commission's notice requirements in order to allow consolidation of these services to occur as soon as possible. Copies of the filing have been served on WPPI, Oconto Falls Water & Light Commission, Prairie du Sac Water & Light Department, Stoughton Electric Utility, and the Public Service Commission of Wisconsin. In addition, the filing has been electronically posted on the Midwest ISO's Web site at http://www.midwestiso.org under the heading “Filings to FERC” for other interested parties.

Comment Date: March 20, 2003.

11. Michigan Electric Transmission Company, LLC

[Docket No. ER03-565-000]

Take notice that on February 27, 2003, Michigan Electric Transmission Company, LLC (METC) submitted a Letter Agreement between Lowell Light and Power Company and Michigan Electric Transmission Company, LLC dated January 30, 2003 (Lowell and Letter Agreement), intended to establish the terms and conditions for engineering and construction activities to be performed by METC in connection with a possible interconnection to the METC transmission system by Lowell.

Comment Date: March 20, 2003.

12. Entergy Services, Inc.

[Docket No. ER03-566-000]

Take notice that on February 27, 2003, Entergy Services, Inc., on behalf of Entergy Gulf States, Inc. (Entergy Gulf States), tendered for filing an original and five copies of a Notice of Termination of the Interconnection and Operating Agreement and Generator Imbalance Agreement between Entergy Gulf States and Crown Paper Company d/b/a Crown Vantage.

Comment Date: March 20, 2003.

13. Delmarva Power & Light Company

[Docket No. ER03-567-000]

Take notice that on February 27, 2003, Delmarva Power & Light Company (Delmarva) tendered for filing with the Federal Energy Regulatory Commission (Commission), revised rate schedule sheets (Revised Sheets) in its Second Revised Rate Schedule FERC No. 111 (Rate Schedule) between Delmarva and the Town of Middletown, Delaware (Middletown). The Revised Sheets delete references to a lease agreement between the parties and modify the description of the delivery point in the Rate Schedule.

Delmarva requests that the Commission allow the Revised Sheets to become effective May 1, 2003, or the commercial operations date of Middletown's substation and associated facilities.

Delmarava states that copies of the filing were served upon Middletown and the Delaware Public Service Commission.

Comment Date: March 20, 2003.

14. Phelps Dodge Energy Services, LLC

[Docket No. ER03-568-000]

Take notice that on February 27, 2003, Phelps Dodge Energy Services, LLC filed a request to amend its market-based rate tariff, FERC Electric Rate Schedule No. 1, and its Code of Conduct to permit sales to its affiliates without making a separate filing under Section 205 under the Federal Power Act.

Comment Date: March 20, 2003.

15. Southern Illinois Power Cooperative

[Docket No. NJ03-2-000]

Take notice that on February 26, 2003, Southern Illinois Power Cooperative (SIPC) submitted for filing revised ancillary service pricing and a request for declaratory order which would find the SIPC's revised ancillary service pricing meets the Federal Energy Regulatory Commission's (Commission) comparability standards and is therefore an acceptable reciprocity tariff pursuant to the provisions of Order No. 888.

Comment Date: March 28, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-5702 Filed 3-10-03; 8:45 am]

BILLING CODE 6717-01-P